DEPARTMENT OF LABOR

Employment and Training Administration

[TA-W-56,696 and TA-W-56,696A]

Hewlett-Packard Company Imaging & Printing Group—Technology Platforms Division Including On-Site Leased Workers of Chimes, Inc., Corvallis, OR; Including an Employee of Hewlett-Packard Company Imaging & Printing Group—Technology Platforms Division Corvallis, OR Located in Chino, CA; Amended Notice of Certification Regarding Eligibility To Apply for Worker Adjustment Assistance and Alternative Trade Adjustment Assistance

In accordance with Section 223 of the Trade Act of 1974 (19 U.S.C. 2273), and Section 246 of the Trade Act of 1974, (26 U.S.C. 2813), as amended, the Department of Labor issued a Certification Regarding Eligibility to Apply for Worker Adjustment Assistance and Alternative Trade Adjustment Assistance on April 7, 2005, applicable to workers of Hewlett-Packard Company, Imaging & Printed Group—Technology Platforms Division, including on-site leased workers of Chimes, Inc., Corvallis, Oregon. The notice was published in the Federal Register on May 16, 2005 (70 FR 25862).

At the request of the State agency, the Department reviewed the certification for workers of the subject firm. New information shows that a worker separation occurred involving an employee of the Corvallis, Oregon facility of the Imaging & Printing Group—Technology Platforms Division of Hewlett-Packard Company located in Chino, California. Ms. Sheri Milne provided various support services for the production of inkjet cartridges for small desktop printers at the Corvallis, Oregon location of the subject firm.

Based on these findings, the Department is amending this certification to include an employee of the Corvallis, Oregon facility of the Imaging & Printing Group—Technology Platforms Division of Hewlett-Packard Company located in Chimes, California.

The intent of the Department's certification is to include all workers of Hewlett-Packard Company, Imaging & Printing Group—Technology Platforms Division, Corvallis, Oregon, who were adversely affected by a shift in production to Singapore.

The amended notice applicable to TA-W-56,696 is hereby issued as follows:

All workers of Hewlett-Packard Company, Imaging & Printing Group—Technology Platforms Division, including on-site leased workers of Chimes, Inc., Corvallis, Oregon (TA-W-56,696), including an employee of Hewlett-Packard Company, Imaging & Printing Group—Technology Platforms Division, Corvallis, Oregon located in Chino, California (TA-W-56,696A), who became totally or partially separated from employment on or after March 7, 2004, through April 7, 2007, are eligible to apply for adjustment assistance under Section 223 of the Trade Act of 1974, and are eligible to apply for alternative trade adjustment assistance under Section 246 of the Trade Act of 1974, as amended.

Signed at Washington, DC, this 26th day of September 2005.
Linda G. Poole,
Certifying Officer, Division of Trade Adjustment Assistance.

[FR Doc. E5-5477 Filed 10-5-05; 8:45 am]

BILLING CODE 4510-30-P